NATIONAL CREDIT UNION ADMINISTRATION

Sunshine Act; Notice of Agency Meeting

Time and Date: 10 a.m., Tuesday, December 2, 2008.

Place: Board Room, 7th Floor, Room 7047, 1775 Duke Street, Alexandria, VA 22314-3428.

Status: Closed.

Matters to be Considered: 1. Personnel Matter. Closed pursuant to Exemptions (2) and (6).

FOR FURTHER INFORMATION CONTACT: Mary Rupp, Secretary of the Board, Telephone: 703-518-6304.

Mary Rupp,
Board Secretary.

[FR Doc. E8-28503 Filed 11-26-08; 11:15 am]

BILLING CODE 7535-01-P